DEPARTMENT OF ENERGY

Federal Energy Regulatory Commission

[Project No. 2816-050]

North Hartland, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 2816-050.

c. Date filed: November 26, 2019.

d. Applicant: North Hartland, LLC (North Hartland).

e. Name of Project: North Hartland Hydroelectric Project (North Hartland Project).

f. Location: The North Hartland Project is located on the Ottauquechee River in Windsor County, Vermont. The North Hartland Project occupies 20.8 acres of land managed by the U.S. Army Corps of Engineers (Corps).

g. Filed Pursuant To: Federal Power Act 16 U.S.C. 791(a)-825(r).

h. Applicant Contact: Andrew J. Locke, President, Essex Hydro Associates, LLC, 55 Union Street, Boston, MA 02108; Phone at (617) 367-0032, or email at alocke@essexhydro.com.

i. FERC Contact: Bill Connelly, (202) 502-8587 or william.connelly@ferc.gov.

j. Deadline for filing motions to intervene and protests, comments, recommendations, terms and conditions, and prescriptions: 60 Days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis at this time.

l. Project Description: The existing North Hartland Project consists of: (1) A steel-lined intake structure in the Corps' North Hartland Dam that is equipped with trashracks with 2-inch clear bar spacing; (2) a 470-foot-long, 12-foot-diameter steel penstock that provides flow to a 4.0-megawatt (MW) adjustable blade, vertical shaft turbine-generator unit located inside of a 59-foot-long, 40-foot-wide concrete powerhouse; (3) a 12-foot-diameter bypass conduit that branches off of the 12-foot-diameter penstock about 100 feet before the powerhouse, and that empties into a 60-foot-long concrete-lined channel through a bypass control gate; (4) a 30-inch-diameter steel penstock that branches off of the 12-foot-diamater bypass conduit about 50 feet upstream of the bypass control gate, and that provides flow to a 0.1375-MW fixed geometry, horizontal pump turbine-generator unit located on a raised platform outside of the southern wall of the powerhouse; (5) a 400-foot-long, 50 to 150-foot-wide tailrace channel; (6) a transmission line that comprises an approximately 600-foot-long, 12.5 kilovolt (kV) underground segment, and a 4,000-foot-long, 12.5-kV overhead segment that connect the generators to Green Mountain Power Corporation's Clay Hill Road Line 66 Transmission Project No. 12766; and (9) appurtenant facilities.

The project is managed to meet daily peak electrical system demand, as needed using the available head and reservoir outflow from the Corps' North Hartland dam. The current license requires North Hartland to release a continuous minimum flow of 23 cubic feet per second (cfs) from July 1 through October 31, and 40 cfs during the remainder of the year (or inflow to the reservoir, whichever is less), for the purpose of protecting and enhancing aquatic resources in the Ottauquechee River. The project has an average annual generation of approximately 13,991,990 kilowatt-hours from 2014 through 2018.

North Hartland proposes to release the following minimum and maximum flows, respectively, to the downstream reach: (1) 60 and 700 cfs from October 1 through March 31; (2) 160 and 835 cfs from April 1 through April 31; (3) 160 and 550 cfs from May 1 through May 31; (4) 140 and 450 cfs from June 1 through June 30; and (5) 60 and 300 cfs from July 1 through September 30.

m. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-2816). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

You may also register online at https://ferconline.ferc.gov/FERCOnline.aspx to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title PROTEST, MOTION TO INTERVENE, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. A license applicant must file no later than 60 days following the date of issuance of this notice: (1) A copy of the water quality certification; (2) a copy of the request for certification, including proof of the date on which the certifying agency received the request; or (3) evidence of waiver of water quality certification.

p. Procedural Schedule: The application will be processed according to the following schedule. Revisions to the schedule will be made as appropriate.

Milestone | Target date
Filing of interventions, protests, comments, recommendations, preliminary terms and conditions, and preliminary fishway prescriptions | October 2020.
Commission issues Environmental Assessment | May 2021.
Comments on Environmental Assessment | June 2021.

Final amendments to the application must be filed with the Commission no later than 30 days from the issuance date of this notice.

Dated: August 27, 2020.
Nathaniel J. Davis, Sr.,
Deputy Secretary.

[FR Doc. 2020-19382 Filed 9-1-20; 8:45 am]

BILLING CODE 6717-01-P